NATIONAL AERONAUTICS AND SPACE ADMINSTRATION

[Notice 05-040]

NASA Robotic and Human Exploration of Mars Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Robotic and Human Exploration of Mars Strategic Roadmap Committee.

DATES: Tuesday, March 29, 2005, 8 a.m. to 5 p.m., Wednesday, March 30, 2005, 8 a.m. to 5 pm.

ADDRESSES: University of Maryland, University College, 3501 University Blvd. East, Adelphi, MD 20783.

FOR FURTHER INFORMATION CONTACT: Dr. Michael Meyer, (202) 358-0307.

SUPPLEMENTARY INFORMATION: The meeting will be open to the public up to the seating capacity of the meeting room. Attendees will be requested to sign a register.

The agenda for the meeting is as follows:

—Review of previous activities

—Summary of draft roadmap sections

—Discussion of contents of roadmap sections

—Summary and actions

It is imperative that the meeting be held on this date to accommodate the scheduling priorities of the key participants.

Michael F. O'Brien,
Assistant Administrator for External Relations, National Aeronautics and Space Administration.

[FR Doc. 05-4627 Filed 3-8-05; 8:45 am]

BILLING CODE 7510-13-P